NUCLEAR REGULATORY COMMISSION

10 CFR Part 72

RIN 3150-AG87

List of Approved Spent Fuel Storage Casks: FuelSolutions™ Cask System Revision; Confirmation of Effective Date

AGENCY: Nuclear Regulatory Commission.

ACTION: Direct final rule; confirmation of effective date.

SUMMARY: The Nuclear Regulatory Commission (NRC) is confirming the effective date of January 28, 2002, for the direct final rule that appeared in the Federal Register of November 14, 2001 (66 FR 56982). This direct final rule amended the NRC's regulations by revising the BNFL Fuel Solutions (FuelSolutions™) cask system listing within the “List of Approved Spent Fuel Storage Casks” to include Amendment No. 2 to Certificate of Compliance (CoC) Number 1026. Amendment No. 2 modified the Technical Specifications (TS) to allow the W74 canister to be placed in the transfer cask instead of the spent fuel pool until the affected storage cask is repaired or replaced. The TS was also modified to clarify the description of the other non-fissile material permitted to be stored in the W74 canister and to revise the temperatures to correspond to the liner thermocouples. This document confirms the effective date.

DATES: The effective date of January 28, 2002, is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Merri Horn, Office of Nuclear Material Safety and Safeguards, U.S. Nuclear Regulatory Commission, Washington, DC 20555. Telephone (301) 415-8126 (e-mail: mlh1@nrc.gov).

SUPPLEMENTARY INFORMATION: On November 14, 2001 (66 FR 56982), the NRC published in the Federal Register a direct final rule amending its regulations in 10 CFR 72 to revise the BNFL Fuel Solutions (FuelSolutions™) cask system listing within the “List of Approved Spent Fuel Storage Casks” to include Amendment No. 2 to Certificate of Compliance (CoC) Number 1026. Amendment No. 2 modified the Technical Specifications (TS) to allow the W74 canister to be placed in the transfer cask instead of the spent fuel pool until the affected storage cask is repaired or replaced. The TS were also modified to clarify the description of the other non-fissile material permitted to be stored in the W74 canister and to revise the temperatures to correspond to the liner thermocouples. In the direct final rule, NRC stated that if no significant adverse comments were received, the direct final rule would become final on the date noted above. The NRC did not receive any comments that warranted withdrawal of the direct final rule. Therefore, this rule will become effective as scheduled.

Dated at Rockville, Maryland, this 17th day of January, 2002.
For the Nuclear Regulatory Commission.
Michael T. Lesar,
Chief, Rules and Directives Branch, Division of Administrative Services, Office of Administration.

[FR Doc. 02-1719 Filed 1-23-02; 8:45 am]

BILLING CODE 7590-01-P